DEPARTMENT OF COMMERCE

Foreign-Trade Zones Board

[Order No. 1774]

Reorganization of Foreign-Trade Zone 47 Under Alternative Site Framework; Boone County, KY

Pursuant to its authority under the Foreign-Trade Zones Act of June 18, 1934, as amended (19 U.S.C. 81a-81u), the Foreign-Trade Zones Board (the Board) adopts the following Order:

Whereas, the Board adopted the alternative site framework (ASF) (74 FR 1170, 01/12/09; correction 74 FR 3987, 01/22/09; 75 FR 71069-71070, 11/22/10) as an option for the establishment or reorganization of general-purpose zones;

Whereas, the Greater Cincinnati Foreign Trade Zone, Inc., grantee of FTZ 47, submitted an application to the Board (FTZ Docket 21-2011, filed 3/15/2011) for authority to reorganize under the ASF with a service area of Boone, Kenton and Campbell Counties, Kentucky, adjacent to the Cincinnati Customs and Border Protection port of entry, and FTZ 47's existing Site 2 would be categorized as a magnet site and existing Site 1 would be reduced by 15 acres and categorized as a usage-driven site;

Whereas, notice inviting public comment was given in the Federal Register (76 FR 14901, 3/18/2011) and the application has been processed pursuant to the FTZ Act and the Board's regulations; and,

Whereas, the Board adopts the findings and recommendations of the examiner's report, and finds that the requirements of the FTZ Act and Board's regulations are satisfied, and that the proposal is in the public interest;

Now, Therefore, the Board hereby orders:

The application to reorganize FTZ 47 under the alternative site framework is approved, subject to the FTZ Act and the Board's regulations, including Section 400.28, to the Board's standard 2,000-acre activation limit for the overall general-purpose zone project, and to a five-year ASF sunset provision for magnet sites that would terminate authority for Site 2 if not activated by July 31, 2016, and to a three-year ASF sunset provision for usage-driven sites that would terminate authority for Site 1 if no foreign-status merchandise is admitted for a bona fide customs purpose by July 31, 2014.

Signed at Washington, DC, this 26th day of July 2011.
Ronald K. Lorentzen,
Deputy Assistant Secretary for Import Administration, Alternate Chairman, Foreign-Trade Zones Board.
Attest:
Andrew McGilvray,
Executive Secretary.

[FR Doc. 2011-19706 Filed 8-3-11; 8:45 am]

BILLING CODE 3510-DS-P